DEPARTMENT OF HOUSING AND URBAN DEVELOPMENT

[Docket No. FR-6392-D-01]

Delegation of Authority for the Office of the Chief Information Officer

AGENCY: Office of the Secretary, HUD.

ACTION: Notice of delegation of authority.

SUMMARY: Through this notice, the Secretary of the Department of Housing and Urban Development delegates to the Chief Information Officer (CIO) all authority and responsibility for the Department's information technology (IT) and authority to serve as the Department's Senior Information Technology Executive. This delegation of authority supersedes all prior delegations of authority for the Office of the Chief Information Officer, including the delegation of authority published in the Federal Register on November 1, 2011.

DATES: This delegation of authority is effective May 23, 2023.

FOR FURTHER INFORMATION CONTACT: John B. Shumway, Assistant General Counsel for Administrative Law, Office of General Counsel, Department of Housing and Urban Development, 451 7th Street SW, Room 9244, Washington, DC 20410, telephone number (202) 405-5190 (this is not a toll-free number). HUD welcomes and is prepared to receive calls from individuals who are deaf or hard of hearing, as well as individuals with speech or communication disabilities. To learn more about how to make an accessible telephone call, please visit: https://www.fcc.gov/consumers/guides/telecommunications-relay-service-trs.

SUPPLEMENTARY INFORMATION: The Chief Information Officer is responsible for meeting the requirements of section 5125 of the Clinger-Cohen Act (40 U.S.C. 11315), which established the position of the Chief Information Officer. Additional responsibilities of the CIO derive from the Paperwork Reduction Act of 1995 (44 U.S.C. 3506), the Privacy Act of 1974 (5 U.S.C. 552(a)), and the E-Government Act of 2002. Accordingly, the Secretary delegates as follows:

Section A. Authority Delegated

The Secretary of HUD hereby delegates to the CIO all authority and responsibility for the Department's information technology (IT), except those already delegated to the Government National Mortgage Association (Ginnie Mae), including management of the Department's information technology resources and the authority to serve as the Department's Senior Information Technology Executive. In carrying out such duties and responsibilities, the CIO shall be responsible for meeting the requirements of section 5125 of the Clinger-Cohen Act (40 U.S.C. 11315), the Paperwork Reduction Act of 1995 (44 U.S.C. 3506), and the E-Government Act of 2002. The CIO shall, among other duties:

1. Ensure compliance by all HUD program offices with the prompt, efficient, and effective implementation of Information Resources Management responsibilities.

2. Provide advice and other assistance to the Secretary of HUD and other senior management personnel of HUD to ensure that information technology (IT) is acquired and information resources are managed effectively and efficiently.

3. Approve and implement all Technology Modernization Fund (TMF) funding and development activities including, but not limited to, the authority to sign Interagency Agreements.

4. Promote the effective and efficient design and operation of all major IT processes for HUD, including improvements to work processes of the Department. Monitor and evaluate the performance of IT programs of HUD based on applicable performance measurements, and advise the Secretary of HUD and IT Governance/Oversight Boards regarding whether to continue, modify, or terminate a program or project.

5. Serve as a member of the executive branch Chief Information Officers Council, participate in its functions, and monitor the Department's implementation of IT standards promulgated by the Secretary of Commerce.

6. Serve as a representative to the Interagency Committee on Government Information established under section 207(c) of the E-Government Act.

7. Perform any additional duties that are assigned to the CIO by applicable law, including Office of Management and Budget (OMB) regulations and circulars.

8. Consistent with the roles and responsibilities of IT Governance/Oversight Boards, design, implement, and maintain HUD process for maximizing the value and assessing and managing the risks of IT acquisitions, in accordance with section 5122 of the Clinger-Cohen Act.

9. Monitor the Department's compliance with the policies, procedures, and guidance in OMB Circular A-130 (or equivalent guidance), and recommend or take appropriate corrective action in instances of failures to comply and, as required by the Circular, report to the OMB Director.

10. To meet the objectives of the Government Paperwork Elimination Act (Pub. L. 105-277), the CIO must ensure that the Department's methods for use and acceptance of electronic signatures are compatible with the relevant policies and procedures issued by the OMB Director.

11. Carry out duties pursuant to 44 U.S.C. 3506 including:

a. Carry out the agency's information resource management activities to improve agency productivity, efficiency, and effectiveness.

b. Comply with the requirements of this subchapter and related policies established by the Director of the Office of Management and Budget.

c. Exclusion: The CIO shall not be responsible for the Information Collections Submission Process pursuant to the Paperwork Reduction Act as this function was realigned under the Chief Data Officer within the Office of Policy Development and Research.

12. Ensure that HUD web pages and the information contained on the web pages are accessible, available, and secure.

13. In consultation with OMB, OGC, and other agencies, as appropriate, the CIO will coordinate with the appropriate HUD offices to ensure that the Department implements sections 206(c) and 206(d) of the E-Government Act (electronic rulemaking submissions and electronic dockets).

14. The CIO will have ultimate responsibility for ensuring that the Department fulfills its responsibilities under Title III of the E-Government Act, the Federal Information Security Management Act, by:

a. Consistent with 44 U.S.C. 3544, designating a senior Department official who will report to the CIO and have responsibility for departmentwide information security as the official's primary duty, including the following responsibilities: Developing and maintaining an OMB-approved departmentwide information security program consistent with the requirements of 44 U.S.C. 3544(b), 44 U.S.C. 3543, and 40 U.S.C. 11331.

16. Consistent with section 207(d) of the E-Government Act, the CIO will ensure that the Department complies with all OMB policies relating to the categorization of information.

17. In coordination with OGC and OPA, the CIO will ensure that privacy notices posted on HUD websites comply with OMB guidance (see section 208(c) of the E-Government Act).

Section B. Authority Excepted

The authority delegated in this document does not include the authority to sue or be sued or to issue or waive regulations.

Section C. Authority To Redelegate

The CIO is authorized to redelegate to employees of HUD any of the authority delegated under section A above.

Section D. Authority Superseded

This delegation of authority supersedes all prior delegations of authority for the Office of the Chief Information Officer including the delegation of authority published on November 1, 2011 (76 FR 67471.) The Secretary may revoke the authority authorized herein, in whole or part, at any time.

Authority: Section 7(d), Department of Housing and Urban Development Act (42 U.S.C. 3535(d)).

Dated: May 23, 2023.
Marcia L. Fudge,
Secretary.

[FR Doc. 2023-11379 Filed 5-26-23; 8:45 am]

BILLING CODE 4210-67-P